DEPARTMENT OF COMMERCE

National Oceanic and Atmospheric Administration

[I.D. 041306D]

General Advisory Committee to the U.S. Section to the Inter-American Tropical Tuna Commission (IATTC); Public Meeting; Correction

AGENCY: National Marine Fisheries Service (NMFS), National Oceanic and Atmospheric Administration (NOAA), Commerce.

ACTION: Notice of a correction of a public meeting notice.

SUMMARY: NMFS announces the meeting of the General Advisory Committee to the U.S. Section to the IATTC.

DATES: The meeting of the General Advisory Committee will be held on June 1, 2006, from 9 a.m. to 5 p.m. Pacific Time (or until business is concluded).

ADDRESSES: The meeting will be held at NMFS, Southwest Regional Office, 501 West Ocean Boulevard, Suite 3400, Long Beach, CA 90803-4213.

FOR FURTHER INFORMATION CONTACT: J.Allison Routt at (562) 980-4019 or (562) 980-4030.

SUPPLEMENTARY INFORMATION: The original notice published in the Federal Register on Friday, April 21, 2006 (71 FR 20646). This notice serves as a correction to that notice. The last paragraph in the SUPPLEMENTARY INFORMATION stated that “Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.” That paragraph should be removed from the meeting notice. All other previously-published information remains the same.

Dated: April 25, 2006.
Tracey L. Thompson,
Acting Director, Office of Sustainable Fisheries, National Marine Fisheries Service.

[FR Doc. E6-6439 Filed 4-27-06; 8:45 am]

BILLING CODE 3510-22-S